DEPARTMENT OF TRANSPORTATION

Federal Aviation Administration

Twentieth Meeting: RTCA Special Committee 213, Enhanced Flight Vision Systems/Synthetic Vision Systems (EFVS/SVS)

AGENCY: Federal Aviation Administration (FAA), U.S. Department of Transportation (DOT).

ACTION: Meeting Notice of RTCA Special Committee 213, Enhanced Flight Vision Systems/Synthetic Vision Systems (EFVS/SVS).

SUMMARY: The FAA is issuing this notice to advise the public of the twentieth meeting of the RTCA Special Committee 213, Enhanced Flight Vision Systems/Synthetic Vision Systems (EFVS/SVS).

DATES: The meeting will be held October 2-4, 2012 from 9 a.m.-5 p.m.

ADDRESSES: The meeting will be held at the following facilities at Jetcraft Corporation, CH-4030 Basel-Airport, Basel, Switzerland, +41 58 158 4958 (Phone), +41 58 158 4988 (Fax), Web Site: www.jetcraft.com.

FOR FURTHER INFORMATION CONTACT: The RTCA Secretariat, 1150 18th Street, NW., Suite 910, Washington, DC, 20036, or by telephone at (202) 330-0652/(202) 833-9339, fax at (202) 833-9434, or Web site at http://www.rtca.org. Additional contact information: Please contact Tim Etherington, tjetheri@rockwellcollins.com, telephone (319) 295-5233 or mobile at (319) 431-7154, to register for the meeting.

SUPPLEMENTARY INFORMATION: Pursuant to section 10(a) (2) of the Federal Advisory Committee Act (Pub. L. 92-463, 5 U.S.C., App.), notice is hereby given for a meeting of Special Committee 213. The agenda will include the following:

Tuesday, October 2, 2012

Plenary Discussion (sign in at 9:00 a.m.)

• Introductions and administrative items.

• Review and approve minutes from last full plenary meeting.

• Review of terms of reference.

• Status of DO-XXX.

• WG-1 DO-315C draft review.

Wednesday, October 3, 2012

Plenary Discussion

• WG-1 DO-315C draft review.

• WG-2 objectives and overview.

Thursday, October 4, 2012

Plenary Discussion

• WG-1 DO-315C draft review.

• Administrative items.

• Adjourn.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on September 6, 2012
David Sicard,
Manager, Business Operations Group, Federal Aviation Administration.

[FR Doc. 2012-22460 Filed 9-11-12; 8:45 am]

BILLING CODE 4910-13-P